DEPARTMENT OF THE INTERIOR

National Park Service

Final Supplemental Environmental Impact Statement; Elwha River Ecosystem Restoration Implementation; Olympic National Park, Clallam County, WA; Notice of Approval of Record of Decision

Summary: Pursuant to section 102(2)(C) of the National Environmental Policy Act of 1969 (42 U.S.C. 4332(2)(c)) and the regulations promulgated by the Council on Environmental Quality (40 CFR Part 1505.2), the Department of the Interior, National Park Service has prepared and approved a Record of Decision for the Final Supplemental Environmental Impact Statement (Final SEIS) for Elwha River ecosystem restoration at Olympic National Park. The Final SEIS supplements the 1996 implementation EIS, and will serve as a blueprint in guiding implementation of the Elwhat River ecosystem restoration initiative as called for in the 1992 Elwha River Ecosystem and Fisheries Restoration Act. The Environmental Protection Agency's Federal Register published notification of the filing of the Final EIS on September 2, 2005.

Decision: As soon as practical Olympic National Park will begin to implement the restoration strategies, mitigations, and projects identified and analyzed as the Preferred Alternative contained in the Final SEIS. This course of action and alternative options were addressed in the Final and Draft SEIS (the availability of the latter for public review was announced in the Federal Register on November 16, 2004). The full range of foreseeable environmental consequences were assessed, and appropriate mitigation measures identified. Both a No Action alternative and “environmentally preferred” options were identified and analyzed.

Copies: Interested parties desiring to review the Record of Decision may obtain a copy by contacting the Superintendent, Olympic National Park, 600 East Park Ave., Port Angeles, WA 98362; or via telephone request at (360) 565-3000.

Dated: October 21, 2005.
Jonathan B. Jarvis,
Regional Director, Pacific West Region.

[FR Doc. 05-23398 Filed 11-28-05; 8:45 am]

BILLING CODE 4312-KS-M